INTERNATIONAL TRADE COMMISSION

[Investigation Nos. 731-TA-340-E and H (Second Review)]

Solid Urea From Russia And Ukraine

Determinations

On the basis of the record ¹ developed in the subject five-year reviews, the United States International Trade Commission (Commission) determines,² pursuant to section 751(c) of the Tariff Act of 1930 (19 U.S.C. 1675(c)) (the Act), that revocation of the antidumping duty orders on solid urea from Russia and Ukraine would be likely to lead to continuation or recurrence of material injury to an industry in the United States within a reasonably foreseeable time.

¹ The record is defined in sec. 207.2(f) of the Commission's Rules of Practice and Procedure (19 CFR § 207.2(f)).

² Vice Chairman Deanna Tanner Okun, Commissioner Jennifer A. Hillman, and Commissioner Shara L. Aranoff dissenting.

Background

The Commission instituted these reviews on October 1, 2004 (69 FR 58957) and determined on January 4, 2005 that it would conduct full reviews (70 FR 2882, January 18, 2005). Notice of the scheduling of the Commission's reviews and of a public hearing to be held in connection therewith was given by posting copies of the notice in the Office of the Secretary, U.S. International Trade Commission, Washington, DC, and by publishing the notice in the Federal Register on April 13, 2005 (70 FR 19502). The hearing was held in Washington, DC, on September 22, 2005, and all persons who requested the opportunity were permitted to appear in person or by counsel.

The Commission transmitted its determinations in these reviews to the Secretary of Commerce on December 13, 2005. The views of the Commission are contained in USITC Publication 3821 (December 2005), entitled Solid Urea from Russia and Ukraine: Investigations Nos. 731-TA-340-E & H (Second Review).

By order of the Commission.
Issued: December 13, 2005.
Marilyn R. Abbott,
Secretary to the Commission.

[FR Doc. E5-7445 Filed 12-15-05; 8:45 am]

BILLING CODE 7020-02-P